DEPARTMENT OF TRANSPORTATION

National Highway Traffic Safety Administration

[U.S. DOT Docket No. NHTSA-2014-0044]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before June 30, 2014.

ADDRESSES: You may submit comments identified by DOT Docket ID Number NHTSA-2014-0044 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays. Fax: 1-(202) 493-2251.

Instructions: Each submission must include the Agency name and the Docket number for this Notice. Note that all comments received will be posted without change to http://www.regulations.gov including any personal information provided.

FOR FURTHER INFORMATION CONTACT: Dr. Kathy Sifrit, Contracting Officer's Technical Representative, Office of Behavioral Safety Research (NTI-132), National Highway Traffic Safety Administration, 1200 New Jersey Avenue SE., W46-472, Washington, DC 20590. Dr. Sifrit's phone number is (202) 366-0868 and her email address is kathy.sifrit@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) the accuracy of the agency's estimate of the burden of the proposed collection of information, including the validity of the methodology and assumptions used; (iii) how to enhance the quality, utility, and clarity of the information to be collected; and (iv) how to minimize the burden of the collection of information on those who are to respond, including the use of appropriate automated, electronic, mechanical, or other technological collection techniques or other forms of information technology, e.g., permitting electronic submission of responses. In compliance with these requirements, NHTSA asks public comment on the following proposed collection of information:

Older Drivers and Navigation Systems

Type of Request—New information collection requirement.

OMB Clearance Number—None.

Form Number—NHTSA 1260.

Requested Expiration Date of Approval—3 years from date of approval.

Summary of the Collection of Information—The National Highway Traffic Safety Administration (NHTSA) proposes to collect information from licensed drivers about their age, driver license status, driving habits, vehicle type and age, and experience using Electronic Navigation Systems (ENSs). Participation in the study will be voluntary. Drivers will volunteer for the study by responding to an emailed or individually-delivered descriptive solicitation or as a result of reading a call for volunteers in a publication or on a poster. The drivers will be asked a brief series of questions to determine eligibility to participate in a study of older adults' driving performance while they drive to familiar destinations, unfamiliar destinations using paper directions, and unfamiliar destinations using an ENS. A project assistant will then describe the proposed study to those respondents who qualify for the study and answer all questions that the drivers may have. Each driver who meets the criteria for subject selection will then be asked if he or she wishes to participate. If yes, a project assistant will then determine the availability of the respondent to participate in the data collection activities and, if available, schedule the volunteer for the first data collection session.

The first data collection session will assess the participant for cognitive impairment. If no significant cognitive impairment is detected using standard testing instruments, the volunteer will be accepted as a participant, and an on-the-road data collection session will be scheduled. During the on-the-road session, the participant will drive his/her own car on predetermined routes with an ENS and with paper directions. A Driver Rehabilitation Specialist (DRS) will score driving quality and adherence to the prescribed route, and a portable instrument package will record driving parameters such as speed and acceleration.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Some older drivers have difficulty navigating to unfamiliar places. As a result, they either restrict their driving thereby decreasing their quality of life or attempt to drive and potentially encounter difficulties including becoming lost or using cognitive resources for wayfinding rather than for maneuvering safely through traffic. A number of electronic devices have been advanced as means to prolong older adults' driving careers. These include ENSs, which could aid older drivers through freeing cognitive resources otherwise needed for wayfinding. It is possible, however, that these systems may increase driver workload because they select a route that is different than the driver expects or by causing a distraction. The purpose of the study is to document differences in older adults' driving performance while they drive to familiar destinations, unfamiliar destinations using paper directions, and unfamiliar destinations using an ENS. The project will also explore the effects of familiarity using an ENS on driving performance. It will then assess the benefits of providing training in using an ENS to older adults. The proposed questions will allow research staff to ensure that prospective participants meet study inclusion criteria and facilitate their study participation.

Description of the Likely Respondents (Including Estimated Number, and Proposed Frequency of Response to the Collection of Information)—Respondents will include up to 320 drivers 60 years old or older licensed in the State of North Carolina. Since not all volunteers will qualify, the agency proposes to conduct 320 conversations (telephone or face-to-face depending on how the volunteer was recruited) with potential participants to yield 160 participants.

Estimate of the Total Annual Reporting and Record Keeping Burden Resulting from the Collection of Information—The 320 conversations will average 10 minutes in length including introduction, qualifying questions, potential participant questions, logistical questions, scheduling if the volunteer qualifies, and conclusion. The total estimated annual burden will be 53.33 hours. Participants will incur no costs from the data collection, and participants will incur no record keeping burden and no record keeping cost from the information collection.

Authority: 44 U.S.C. 3506(c)(2)(A).

Issued in Washington, DC, on April 25, 2014.
Jeff Michael,
Associate Administrator, Research and Program Development.

[FR Doc. 2014-09840 Filed 4-29-14; 8:45 am]

BILLING CODE P